DEPARTMENT OF ENERGY

Office of Energy Efficiency and Renewable Energy

10 CFR Part 430

[Docket Number EE-RM/TP-97-440]

RIN 1904-AA46

Energy Conservation Program for Consumer Products: Test Procedures for Central Air Conditioners and Heat Pumps

AGENCY: Office of Energy Efficiency and Renewable Energy, Department of Energy.

ACTION: Proposed rule; extension of comment period.

SUMMARY: On January 22, 2001, the Department of Energy published a Notice of Proposed Rulemaking (66 FR 6768) to revise the test procedures for central air conditioners and heat pumps. The notice announced that the closing date for receiving public comments would be March 23, 2001. The Air-Conditioning and Refrigeration Institute (ARI) requested that the comment period be extended to allow additional time for understanding the lengthy revisions to the test procedures. The Department agreed to this extension of the comment period to May 23, 2001. On June 4, 2001, the ARI requested that the comment period be extended once more to allow additional time for collecting and analyzing data on the cyclic degradation coefficients CD . The Department agrees to the extension of the comment period to August 16, 2001, for the ARI and other interested parties, for the limited purpose of obtaining information on default values of the cyclic degradation coefficients CD. If DOE receives further information concerning this issue, it will allow further public comment on this limited issue before issuing a final rule.

DATES: Comments must be received on or before August 16, 2001.

ADDRESSES: Please submit written comments to: Michael Raymond, U.S. Department of Energy, Office of Energy Efficiency and Renewable Energy, Hearings and Dockets, Test Procedures for Central Air Conditioners Including Heat Pumps, Docket No. EE-RM-97-440, EE-41, Room 1J-018, Forrestal Building, 1000 Independence Avenue, SW., Washington, DC 20585-0121. You may send an email to: michael.raymond@ee.doe.gov.

FOR FURTHER INFORMATION CONTACT: Michael Raymond at (202) 586-9611, E-mail: michael.raymond@ee.doe.gov, or Eugene Margolis, Esq., (202) 586-9507, E-mail: Eugene.Margolis@HQ.DOE.GOV.

Issued in Washington, DC, on July 10, 2001.
David K. Garman,
Assistant Secretary, Energy Efficiency and Renewable Energy.

[FR Doc. 01-17685 Filed 7-13-01; 8:45 am]

BILLING CODE 6450-01-P